DEPARTMENT OF COMMERCE

National Oceanic and Atmospheric Administration

[RTID 0648-XE436]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Highly Migratory Species (HMS) Committee will hold a public meeting.

DATES: The meeting will be held on Thursday, November 21, 2024, from 3 p.m. to 5 p.m. For agenda details, see SUPPLEMENTARY INFORMATION.

ADDRESSES: The meeting will be held via webinar. Webinar connection, agenda items, and any additional information will be available at www.mafmc.org/council-events.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's HMS Committee will meet to review and provide comments on the NOAA HMS Proposed Rule for Electronic Reporting Requirements for Atlantic HMS. This action proposes to modify and/or expand reporting requirements for Atlantic HMS, including reporting by commercial, for-hire, and private recreational vessel owners and dealers. The proposed rule includes: (1) Requiring vessel owners, who currently report in existing paper commercial logbooks (i.e., Atlantic HMS logbook and the Southeast Coastal Fisheries Logbook Program), to report electronically; (2) Implementing new logbook requirements for vessel owners holding HMS Charter/Headboat permits, Atlantic Tunas General category permits, Atlantic Tunas Harpoon category permits, and/or Swordfish General Commercial permits; (3) Modifying reporting options for private recreational vessel owners holding HMS Angling permits; (4) Requiring HMS dealers to report individual fish weights for additional species (i.e., Atlantic bigeye, albacore, yellowfin, and skipjack tunas, swordfish, and pelagic sharks); (5) Requiring electronic HMS reporting for all permit holders, using systems or applications approved by NOAA Fisheries for Atlantic HMS; and 6) Technical changes to clarify certain HMS regulations.

Special Accommodations

The meeting is physically accessible to people with disabilities. Requests for sign language interpretation or other auxiliary aids should be directed to Shelley Spedden at the Council Office, (302) 526-5251, at least 5 days prior to the meeting date.

Authority: 16 U.S.C. 1801 et seq.

Dated: October 30, 2024.
Rey Israel Marquez,
Acting Deputy Director, Office of Sustainable Fisheries, National Marine Fisheries Service.

[FR Doc. 2024-25589 Filed 11-1-24; 8:45 am]

BILLING CODE 3510-22-P